SMALL BUSINESS ADMINISTRATION

Military Reservist Economic Injury Disaster Loans; Interest Rate for Fourth Quarter FY 2011

In accordance with the Code of Federal Regulations 13—Business Credit and Assistance § 123.512, the following interest rate is effective for Military Reservist Economic Injury Disaster Loans approved on or after July 22, 2011.

Military Reservist Loan Program: 4.000%.

Dated: July 21, 2011.
Lisa Lopez-Suarez,
Acting Associate Administrator For Disaster Assistance.

[FR Doc. 2011-18897 Filed 7-26-11; 8:45 am]

BILLING CODE 8025-01-P